DEPARTMENT OF THE INTERIOR

National Park Service

[NPS-WASO-NAGPRA-NPS0038394; PPWOCRADN0-PCU00RP14.R50000]

Notice of Intended Disposition: U.S. Department of the Interior, National Park Service, Missouri National Recreational River, Yankton, SD

AGENCY: National Park Service, Interior.

ACTION: Notice.

SUMMARY: In accordance with the Native American Graves Protection and Repatriation Act (NAGPRA), the U.S. Department of the Interior, National Park Service, Missouri National Recreational River intends to carry out the disposition of human remains removed from Federal or Tribal lands to the lineal descendants, Indian Tribe, or Native Hawaiian organization with priority for disposition in this notice.

DATES: Disposition of the human remains in this notice may occur on or after September 5, 2024. If no claim for disposition is received by August 6, 2025, the human remains in this notice will become unclaimed human remains or cultural items.

ADDRESSES: Curt Dimmick, National Park Service, Missouri National Recreational River, 508 E 2nd Street, Yankton, SD 57078, telephone (605) 665-0209 Ext. 22, email curt_dimmick@nps.gov and Carolyn Campbell, National Park Service, Missouri National Recreational River, 508 E 2nd Street, Yankton, SD 57078, telephone (605) 665-0209 Ext. 30, email carolyn_campbell@nps.gov.

SUPPLEMENTARY INFORMATION: This notice is published as part of the National Park Service's administrative responsibilities under NAGPRA. The determinations in this notice are the sole responsibility of Missouri National Recreational River and additional information on the human remains or cultural items in this notice, including the results of consultation, can be found in the related records. The National Park Service is not responsible for the identifications in this notice.

Abstract of Information Available

Based on the information available, human remains representing, at least, one individual has been reasonably identified. No associated funerary objects are present. In August 2018, an employee of the U.S. Army Corps of Engineers (USACE) reported skeletal remains located within Missouri National Recreational River (MNRR) managed lands in Dixon County, NE. The remains were given to MNRR on August 26, 2018, and were subsequently transferred to the National Park Service regional archeological center for secured storage. An osteology report was completed in February 2019 by subject expertise at the University of Nebraska Lincoln. Based on conclusions drawn from the osteology report and the preponderance of the evidence, the human remains are determined to be Native American in origin.

Determinations

Missouri National Recreational River has determined that:

• The human remains described in this notice represent the physical remains of one individual of Native American ancestry.

• The Ponca Tribe of Nebraska has priority for disposition of the human remains described in this notice.

Claims for Disposition

Written claims for disposition of the human remains in this notice must be sent to the appropriate official identified in this notice under ADDRESSES. If no claim for disposition is received by August 6, 2025, the human remains in this notice will become unclaimed human remains. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains in this notice may occur on or after September 5, 2024. If competing claims for disposition are received, Missouri National Recreational River must determine the most appropriate claimant prior to disposition. Requests for joint disposition of the human remains are considered a single request and not competing requests. Missouri National Recreational River is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: July 25, 2024.
Melanie O'Brien,
Manager, National NAGPRA Program.

[FR Doc. 2024-17256 Filed 8-5-24; 8:45 am]

BILLING CODE 4312-52-P